DEPARTMENT OF HOMELAND SECURITY

Coast Guard

33 CFR Part 117

[Docket No. USCG-2011-0562]

Drawbridge Operation Regulation; Christina River, Wilmington, DE

AGENCY: Coast Guard, DHS.

ACTION: Notice of temporary deviation from regulations.

SUMMARY: The Commander, Fifth Coast Guard District has issued a temporary deviation from the regulations governing the operation of the Third Street Bridge on Route 13, at mile 2.3, across the Christina River in Wilmington, DE. The deviation restricts the operation of the draw span in order to facilitate the inspection of the operational equipment.

DATES: This deviation is effective from 8 a.m. July 18, 2011 until 5 p.m. August 5, 2011.

ADDRESSES: Documents mentioned in this preamble as being available in the docket are part of docket USCG-2011-0562 and are available online by going to http://www.regulations.gov, inserting USCG-2011-0562 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Terrance Knowles, Environmental Protection Specialist, Fifth Coast Guard District, at telephone 757-398-6587, e-mail Terrance.A.Knowles@uscg.mil. If you have questions on viewing the docket, call Renee V. Wright, Program Manager, Docket Operations, telephone 202-366-9826.

SUPPLEMENTARY INFORMATION: The Delaware Department of Transportation (DELDOT), who owns and operates this bascule type drawbridge, has requested a temporary deviation from the current operating regulations set out in 33 CFR 117.237(c) to facilitate the inspection of the operational equipment within the structure.

The Third Street Bridge, at mile 2.3, across the Christina River in Wilmington, DE has a vertical clearance in the closed position to vessels of 14 feet above mean high water.

Under the regular operating schedule the bridge opens on signal as required by 33 CFR 117.237(c).

Under this temporary deviation, the Third Street Bridge will require two hours advance notice to open, each day from 8 a.m. to 5 p.m., on July 18, 2011 until August 5, 2011. At all other times, the Third Street Bridge will open on signal.

Vessels that can pass under the closed span may do so at all times. There are no alternate routes for vessels transiting this section of the Christina River.

There are three vessels that travel through the bridge several times per week whose vertical clearance surpasses the closed bridge position, requiring an opening of the draw span. DELDOT has coordinated this replacement work with these three waterway users and the Coast Guard will inform the other users of the waterway through our Local and Broadcast Notices to Mariners of the closure periods for the bridge so that vessels can arrange their transits to minimize any impacts caused by the temporary deviation. The bridge may be delayed when opening for an emergency during the proposed equipment inspections.

In accordance with 33 CFR 117.35(e), the drawbridge must return to its regular operating schedule immediately at the end of the designated time period. This deviation from the operating regulations is authorized under 33 CFR 117.35.

Dated: June 23, 2011.
Waverly W. Gregory, Jr.,
Bridge Program Manager. By direction of the Commander, Fifth Coast Guard District.

[FR Doc. 2011-16953 Filed 7-6-11; 8:45 am]

BILLING CODE 4910-15-P